DEPARTMENT OF ENERGY

Federal Energy Regulatory Commission

Combined Notice of Filings # 1

October 23, 2009.

Take notice that the Commission received the following electric rate filings:

Docket Numbers: ER09-88-003.

Applicants: Southern Company Services, Inc.

Description: Southern Company Services, Inc on behalf of Southern Companies submits Fifth Revised Sheet No. 1 et al. to FERC Electric Tariff, Second Revised Volume No. 4.

Filed Date: 10/19/2009.

Accession Number: 20091022-0292.

Comment Date: 5 p.m. Eastern Time on Monday, November 9, 2009.

Docket Numbers: ER09-1270-002; ER09-1269-002.

Applicants: Escondido Energy Center, LLC, Chula Vista Energy Center, LLC.

Description: Notice of Change in Status of Escondido Energy Center, LLC, and Chula Vista Energy Center, LLC.

Filed Date: 10/23/2009.

Accession Number: 20091023-5026.

Comment Date: 5 p.m. Eastern Time on Friday, November 13, 2009.

Docket Numbers: ER09-1739-001.

Applicants: ResCom Energy LLC.

Description: ResCom Energy, LLC submits a Petition for Acceptance of Initial Rate Schedule, Waivers and Blanket Authority.

Filed Date: 10/20/2009.

Accession Number: 20091022-0293.

Comment Date: 5 p.m. Eastern Time on Wednesday, September 28, 2009.

Docket Numbers: ER10-75-000; ER10-87-000.

Applicants: Gibson Dunn for John Deere; Tuana Springs Energy, LLC.

Description: Tuana Springs Energy, LLC et al. submits revised tariff, to FERC Electric Tariff, Original Volume 1.

Filed Date: 10/22/2009.

Accession Number: 20091023-0033.

Comment Date: 5 p.m. Eastern Time on Thursday, November 12, 2009.

Docket Numbers: ER10-82-000.

Applicants: PJM Interconnection, L.L.C.

Description: PJM Interconnection, LLC submits revisions to PJM's Section 7.1A, et al.

Filed Date: 10/21/2009.

Accession Number: 20091021-0040.

Comment Date: 5 p.m. Eastern Time on Thursday, November 12, 2009.

Docket Numbers: ER10-86-000.

Applicants: Midwest Independent Transmission System Operator, Inc.

Description: Midwest Independent Transmission System Operator, Inc submits proposed improvements and clarifications to the Module E portion of its tariff.

Filed Date: 10/20/2009.

Accession Number: 20091022-0294.

Comment Date: 5 p.m. Eastern Time on Tuesday, November 10, 2009.

Docket Numbers: ER10-91-000.

Applicants: American Electric Power Service Corporation.

Description: Ohio Power Co et al. submits twentieth Interconnection and Local delivery Service Agreement with Buckeye Power, Inc.

Filed Date: 10/22/2009.

Accession Number: 20091023-0031.

Comment Date: 5 p.m. Eastern Time on Thursday, November 12, 2009.

Docket Numbers: ER10-92-000; ER03-774-014.

Applicants: EDF Trading North America, LLC.

Description: EDG Trading North America, LLC submits Notice of Name Change and Succession and Notice of Change in Status.

Filed Date: 10/22/2009.

Accession Number: 20091023-0030.

Comment Date: 5 p.m. Eastern Time on Thursday, November 12, 2009.

Docket Numbers: ER10-93-000.

Applicants: PJM Interconnection, L.L.C.

Description: PJM Interconnection, LLC submits an executed interconnection service agreement with American Municipal Power, Inc.

Filed Date: 10/22/2009.

Accession Number: 20091023-0028.

Comment Date: 5 p.m. Eastern Time on Thursday, November 12, 2009.

Docket Numbers: ER10-94-000.

Applicants: Sierra Pacific Power Company.

Description: Sierra Pacific Power Co submits revisions to Exhibit F of the General Transfer Agreement with Bonneville Power Administration.

Filed Date: 10/23/2009.

Accession Number: 20091023-0029.

Comment Date: 5 p.m. Eastern Time on Friday, November 13, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-26250 Filed 10-30-09; 8:45 am]

BILLING CODE 6717-01-P